DEPARTMENT OF COMMERCE

National Oceanic and Atmospheric Administration

[I.D. 122903C]

Proposed Information Collection; Comment Request; Standardized Application and Performance Report Formats for NMFS Noncompetitive Grants

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 5, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to JoAnna Grable, (301) 713-1364, or at JoAnna.Grable@noaa.gov.

SUPPLEMENTARY INFORMATION:

I. Abstract

In 2003, NOAA awarded approximately 600 grants for sponsored fishery-related activities involving about $350 million in Federal funds. About 60% of the total number of fishery grant awards (360) were made on a noncompetitive basis. Many of these noncompetitive grants provide pass through funds to states and other entities to support such ongoing activities as: fisheries research and data collection, participation in international fisheries commissions, fishery management council operations, and the operation of fish hatcheries.

This information collection will provide noncompetitive grant applicants and recipients with standardized guidance on information required by the National Marine Fisheries Service (NMFS) in a project narrative (as part of a grant application) and the information required in interim and final performance reports. The information collection will assist NOAA and NMFS staff in the review and management of the noncompetitive grants.

Currently, NMFS does not require grant applicants and recipients of noncompetitive grants to provide standardized information in the project narratives (application) and performance reports. Applicants for and recipients of noncompetitive grants provide information they deem appropriate, or information prescribed by their particular organization. NMFS requests applicants to provide standardized information in project narrative to aid Agency staff in determining whether proposed activities are: allowed under the funding authority; considered technically sound; investigators qualified; and budget costs correlate to proposed work activities. Similarly, NMFS requests recipients of noncompetitive grants to provide standardized information about ongoing or completed grant activities to assist staff in evaluating and certifying whether the recipient is meeting or has met the goals and objectives established in the award agreement.

II. Method of Collection

The Agency will send a letter or e-mail to noncompetitive grant applicants and include a written format describing what information is required in the project narrative portion of a grant application. When the application is approved for funding, the Agency will include interim and final performance report formats as a special award condition to the grant agreement. These report formats will prescribe all information that must be included by the recipient in performance reports.

III. Data

OMB Number: None.

Form Number: None.

Type of Review: Regular submission.

Affected Public: State, Local or Tribal Government; not-for- profit institutions; business or other for profit organizations; and household or individuals.

Estimated Number of Respondents: 360.

Estimated Time Per Response: 10 hours for a Project Narrative; 5 hours for a Progress Report; and 15 hours for a Final Report.

Estimated Total Annual Burden Hours: 12,600.

Estimated Total Annual Cost to Public: $21,960.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 23, 2003.
Gwellnar Banks,
Management Analyst, Office of the Chief Information Officer.

[FR Doc. 04-93 Filed 1-2-04; 8:45 am]

BILLING CODE 3510-22-S